DEPARTMENT OF THE INTERIOR

National Park Service

Notice of Availability of Environmental Assessment (EA) for Suitland Parkway “Emergency” Tree Pruning to Remove Obstructions to the Andrews Air Force Base West Runway

ACTION: Notice of availability of Environmental Assessment for Suitland Parkway “Emergency” Tree Pruning to Remove Obstructions to the Andrews Air Force Base West Runway.

SUMMARY: Pursuant to the National Environmental Policy Act (NEPA), Council on Environmental Quality regulations, and NPS guidance, the National Park Service (NPS) prepared an EA for an “Emergency” tree pruning on Suitland Parkway, Prince George's County, Maryland to remove obstructions to Andrews Air Force Base West runway.

This notice announces availability of an EA on this subject for public review. This EA is not intended to negate or replace in any way a larger and more complex environmental document being prepared by the U.S. Air Force (USAF) and the NPS, to deal with the issue of long term runway landing concerns involving Suitland Parkway and Andrews Air Force Base (AAFB).

The USAF has requested that the National Park Service lower the canopy heights at several areas at the eastern end of the Suitland Parkway, Prince George's County, Maryland in order that they may utilize the southern approach to the AAFB West runway during low visibility events (rain, fog, clouds). This approach is presently closed due to tree obstructions occurring on park property. The purpose of this emergency action is to eliminate the tree penetration into the 34:1 imaginary plane and allow the USAF to reopen their runway approach, while minimizing the resulting effect on the appearance and health of the Suitland Parkway trees, and the habitat values they provide. Approximately 12 to 24 trees are presently penetrating in the USAF imaginary 34:1 plane need to minimally pruned to reduce their height.

NPS now makes this EA available to the public for fifteen day from the publication of the notice. Anyone may submit a written comment. Any written comments NPS receives during this review will be considered prior to making a decision and finding on this EA. Commentors are advised that, if requested, the NPS is required to supply to any requester, the names and addresses of the individuals providing comments. This EA analysis and its public availability are pursuant to NEPA, and its regulations, and NPS authorities and guidance.

SUPPLEMENTARY INFORMATION: Requests for copies of the EA, or for any additional information, should be directed to Ms. Susan Rudy, National Capital Parks-East, 1900 Anacostia Drive, SE, Washington, DC 20020, Telephone: (202) 690-5164.

Dated: January 29, 2001.
John Hale,
Superintendent, National Capital Parks-East.

[FR Doc. 01-3409 Filed 2-8-01; 8:45 am]

BILLING CODE 4310-70-M